DEPARTMENT OF ENERGY

Federal Energy Regulatory Commission

[Docket No. CP07-8-001]

Guardian Pipeline, LLC; Notice of Amendment to Application

May 4, 2007.

Take notice that on April 25, 2007, Guardian Pipeline, L.L.C. (Guardian), filed in Docket No. CP07-8-001, an amendment to its October 13, 2006 application pursuant to section 7 (c) of the Natural Gas Act (NGA) in which it requested authorization to site, construct, and operate facilities consisting of approximately 110 miles of new mainline, two electric compressor stations, seven meter stations and appurtenant facilities resulting in 537,200 Dth/d of incremental firm capacity on Guardian's existing pipeline system and 437,200 Dth/d of firm capacity on the expansion facilities. The amended application consists mainly of a proposed, approximately 23-mile reroute that increases the total length of the pipeline by 8.74 miles. The reroute allows Guardian to avoid tribal lands for which it was unable to negotiate an easement. Additionally, Guardian proposes to move the Sycamore Compressor Station to a new location approximately 0.25 mile north, all as more fully set forth in the application which is on file with the Commission and open to public inspection. The Commission staff will determine if this amendment will have an effect on the schedule for the environmental review of this project. If necessary, a Notice of Schedule for Environmental Review will be issued within 90 days of this Notice. The instant filing may be also viewed on the Web at http://www.ferc.gov using the “eLibrary” link. Enter the docket number excluding the last three digits in the docket number field to access the document. For assistance, call (866) 208-3676 or TTY, (202) 502-8659.

Any questions regarding this application may be directed to Bambi Heckerman, Director, Regulatory Affairs, ONEOK Partners GP, LLC, 13710 FNB Parkway, Omaha, Nebraska 68154-5200; phone: (402) 492-7575; e-mail: bambi.heckerman@oneok.com.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's web site under the “e-Filing” link. The Commission strongly encourages electronic filings.

Comment Date: 5 p.m. Eastern Time on May 25, 2007.

Kimberly D. Bose,
Secretary.

[FR Doc. E7-8970 Filed 5-9-07; 8:45 am]

BILLING CODE 6717-01-P